DEPARTMENT OF ENERGY

Notice Extending the Public Comment Period for the Proposed Kentucky Pioneer Integrated Gasification Combined Cycle Demonstration Project Draft Environmental Impact Statement

AGENCY: Department of Energy.

ACTION: Notice of comment period extension.

SUMMARY: The Department of Energy (DOE) announces the extension of the public comment period to January 25, 2002, for the Proposed Kentucky Pioneer Integrated Gasification Combined Cycle (IGCC) Demonstration Project Draft Environmental Impact Statement (Draft EIS), DOE/EIS-0318. On November 16, 2001, the Environmental Protection Agency issued a Notice of Availability (66 FR 57716) of the Proposed Kentucky Pioneer IGCC Project Draft EIS which began a planned 45-day public comment period. Subsequently, on November 27, 2001, DOE published its own Notice of Availability (66 FR 59237) of the Draft EIS and announced public hearings that were held on December 10, 2001, in Lexington, Kentucky and December 11, 2001, in Trapp, Kentucky. The original comment period was to expire on January 4, 2002. However, in response to public comments and to ensure that the public has ample opportunity to provide comments, DOE is extending the public comment period by 21 days.

DATES: DOE's public comment period on the proposed Kentucky Pioneer IGCC Demonstration Project Draft EIS is extended from January 4, 2002 to January 25, 2002. Comments should be submitted by January 25, 2002 to ensure consideration (see ADDRESSES section for more details). DOE will consider comments submitted after January 25, 2002, to the extent practicable.

ADDRESSES: Comments may be submitted by U.S. mail, fax, telephone, or electronic mail to: Mr. Roy Spears, NEPA Document Manager, U.S. Department of Energy, National Energy Technology Laboratory, P.O. Box 880, Morgantown, WV 26507-0880; Telephone: 304-285-5460; Fax: 304-285-4403 leave message at 1-800-276-9851; rspear@netl.doe.gov.

Requests for copies of the Kentucky Pioneer IGCC Demonstration Project Draft EIS or other information regarding this environmental analysis should also be addressed to Mr. Spears at the address above.

FOR FURTHER INFORMATION CONTACT: For further information on the proposed project or the Draft EIS, please contact Mr. Spears as directed above. For general information on DOE's NEPA process, please contact Ms. Carol M. Borgstrom, Director, Office of NEPA Policy and Compliance, EH-42, U.S. Department of Energy, 1000 Independence Avenue, SW, Washington, DC 20585. Ms. Borgstrom may be contacted by calling 202-586-4600 or by leaving a message at 1-800-472-2756.

SUPPLEMENTARY INFORMATION: Prior to publication of this Federal Register Notice, notices were published in the local newspapers of Winchester and Lexington, Kentucky, to notify members of the local community about the extension of the comment period. Additionally, direct notifications have been made by electronic mail and U.S. mail to individuals who participated in the public meetings in Lexington and Trapp, Kentucky and to those individuals, parties, and Federal, state, and local government agencies that are listed on the project mailing list.

Issued in Washington, DC, this 14th day of January, 2002.
Richard D. Furiga,
Acting Principal Deputy Assistant Secretary for Fossil Energy.

[FR Doc. 02-1329 Filed 1-18-02; 8:45 am]

BILLING CODE 6450-01-P